DEPARTMENT OF HEALTH AND HUMAN SERVICES

National Institutes of Health

Submission for OMB Review; 30-day Comment Request: Generic Clearance To Support Programs and Administrative Operations at the National Cancer Institute (NCI)

SUMMARY: Under the provisions of Section 3507(a)(1)(D) of the Paperwork Reduction Act of 1995, the National Institutes of Health (NIH), has submitted to the Office of Management and Budget (OMB) a request for review and approval of the information collection listed below. This proposed information collection was previously published in the Federal Register on May 23, 2013, Volume 78, p. 30930 and allowed 60-days for public comment. One public comment was received on May 24, 2013 stating that the agency should spend more money on funding prevention research. An email response was sent on May 28, 2013 stating, “Your comments were received and they will be taken into consideration.” The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30-days of the date of this publication.

FOR FURTHER INFORMATION CONTACT: To obtain a copy of the data collection plans and instruments, submit comments in writing, or request more information on the proposed project, contact: Vivian Horovitch-Kelley, PRA/OMB Project Clearance Liaison, Office of Management Policy and Compliance (OMPC), National Cancer Institute, 11400 Rockville Pike, Room 707, Rockville, MD 20852 or call non-toll-free number 301-480-0541 or Email your request, including your address to: Horovitchkellv@mail.nih.gov. Formal requests for additional plans and instruments must be requested in writing.

Proposed Collection: Generic Clearance to Support Programs and Administrative Operations At the National Cancer Institute (NCI), NEW, National Cancer Institute (NCI), National Institutes of Health (NIH).

Need and Use of Information Collection: This is a request for a generic submission that would be used for administrative and program-related submissions. Administrative submissions are defined as information collections (ICs) wherein the primary content is used for administrative purposes (e.g., an application) or to monitor, measure, manage or improve a program. These ICs may involve little if any, subsequent analysis and/or the use of descriptive statistics. Some ICs are forms used to source and aggregate contact information, history, preferences, opinions, and/or other data that does not necessitate further inquiry but allow the respondents to maintain contact, indicate preferences, and respond to data calls of information that has not already been collected. Other ICs may be program-related requests for the purpose of program monitoring, performance measurement, and improving or assessing the effectiveness of the program. This submission is the result of a year worth of analysis at the National Cancer Institute (NCI) which has demonstrated that more often than not, the potential and actual Paperwork Reduction Act (PRA) bootlegs that occur are administrative in nature, not research based. Additionally, NCI program staff who have submitted sub-projects that have been reviewed and returned by OMB, have contributed ideas and comments to this request. And finally, input and collaborations have been sought regarding this submission with program staff from different divisions and offices at NCI and PRA Liaisions at a variety of other National Institutes of Health (NIH) Institutes. Along with the analysis, NCI's ongoing education and outreach effort has increased the awareness and the need for a generic submission that covers administrative and program-related information collections. NCI's current scope for administrative generic sub-projects is non-existent and this submission would fill that gap. Subsequently to publishing the 60-day Federal Register Notice for this project, the program staff realized that the need was understated and thus increased the requested burden hours from 6,000 hours to 16,667 hours over the three-year information collection period.

OMB approval is requested for 3 years. There are no costs to respondents other than their time. The total estimated annualized burden hours are 16,667.

Estimated Burden Hours Over Three Years
Category of respondents | Number of respondents | Frequency of responses | Average time per response (in hours) | Total burden hours
Individuals, Households, Private Sector, State Government, Local Government, Tribal Government, or Federal Government | 20,000 | 1 | 50/60 | 16,667

Dated: November 18, 2013.
Vivian Horovitch-Kelley,
NCI Project Clearance Liaison, National Institutes of Health.

[FR Doc. 2013-28086 Filed 11-21-13; 8:45 am]

BILLING CODE 4140-01-P